DEPARTMENT OF HOUSING AND URBAN DEVELOPMENT

[Docket No. FR-5440-N-01]

Policies and Procedures Pertaining to Changes in Listing Brokers Participating in the Federal Housing Administration (FHA) Management and Marketing III Program

AGENCY: Office of the Assistant Secretary for Housing—Federal Housing Commissioner, HUD.

ACTION: Notice.

SUMMARY: Today's Federal Register notice describes how duly licensed real estate brokers may participate as Listing or Selling brokers under FHA's Management and Marketing III (M&M III) program. All brokers may participate as Selling brokers. Brokers that wish to list HUD's Real Estate Owned (REO) properties, however, must be selected as a Listing broker by HUD's Asset Manager (AM) vendors. HUD will pay a commission of up to six percent to be split evenly between “Listing” and “Selling” brokers as is usual and customary in the real estate market.

DATES: Participation by all brokers in the M&M III program announced in this notice shall be in effect from the date of publication of this notice through May 31, 2015.

FOR FURTHER INFORMATION CONTACT: Vance T. Morris, Director, Office of Single Family Asset Management, Department of Housing and Urban Development, 451 7th Street, SW., Room 9172, Washington, DC 20410; telephone number 202-708-1672 (this is not a toll-free telephone number). Persons with hearing or speech impairments may access this number via TTY by calling the toll-free Federal Information Relay Service at 800-877-8339.

SUPPLEMENTARY INFORMATION:

I. Background

A. Management and Marketing Program

The Federal Housing Administration (FHA) administers the single-family mortgage insurance program. FHA insures approved lenders against the risk of loss on properties obtained with FHA insured financing. In the event of a default on an FHA insured loan, the lender acquires title to the property by foreclosure, a deed-in-lieu of foreclosure, or other acquisition method, files a claim for insurance benefits and conveys the property to HUD. As a result of acquisitions through the mortgage insurance program and other programs, HUD has a need to sell a sizable inventory of single-family homes, making HUD the largest single seller of real estate in the United States. In fiscal years 2008 and 2009, the Department sold 46,333 and 49,385 single-family homes, respectively.

Since 1999, HUD has outsourced the disposition of its REO inventory to private sector contractors under the Management and Marketing (M&M) Program. In June of 2010, HUD awarded contracts under the third generation of M&M. Under the previous generations of M&M contracts, HUD contracted with a single entity to provide all of the administrative, program support, management and marketing services throughout the United States, the Caribbean, Guam and the Northern Marianna Islands. Under the M&M III program, HUD developed a disposition structure for its REO inventory that will streamline its operations, capitalize on the expertise of its potential vendors/contractors, and provide flexibility to meet changing market conditions in the REO industry.

One change is that, beginning June 1, 2010, HUD has contracted with AM vendors who are responsible for the marketing and selling of HUD REO properties. Multiple AM vendors have been contracted to market HUD-owned properties within their selected contract area within each geographic Homeownership Center (HOC) area. AM vendors are required to use the services of local real estate professionals, whose primary place of business is within reasonable proximity to the listed property, including small and small disadvantaged businesses, to list properties for sale and to allow all brokers, regardless of their participation in a Multiple Listing Service, an equal opportunity to show and sell HUD-owned properties. Local listing brokers will be used to ensure wide market exposure for HUD-REO Properties. Under the new M&M III program, HUD will pay a commission of up to six percent to be split evenly between Listing and Selling brokers, as is usual and customary in the real estate market. This is a change from previous M&M programs where listing brokers contracted with the M&M contractors and the M&M contractors were responsible for paying the listing brokers. The commission paid to Listing and Selling brokers will be made on the form HUD-1, Settlement Statement.

AM vendors are responsible for selecting, managing, and overseeing listing brokers who participate in the M&M III program. Brokers that wish to participate as either listing or selling brokers in the M&M III program must register for, and receive a Name Address Identification Number (NAID) before they can either list or sell HUD properties. Brokers who already have a NAID do not need to apply for a new NAID in order to list HUD REO properties but must be selected by the AM vendor as a listing broker. Brokers must also be properly licensed in the geographic areas for which they want to list properties for sale.

B. How To Register for an NAID

Brokers may register for and receive an NAID by completing and submitting a form SAMS-1111. The form SAMS-1111 can be found at http://www.hud.gov/offices/adm/hudclips/forms/samsforms.cfm. Completed forms and supporting documentation must be sent to the HOC jurisdiction for the geographic area where the broker will list a property. HOC addresses are as follows:

Atlanta HOC: U.S. Dept. of HUD, Atlanta Homeownership Center, 40 Marietta Street, Atlanta, GA 30303-2806.

Denver HOC: U.S. Dept. of HUD, Denver Homeownership Center, Program Support Division—21st Floor, 1670 Broadway, Denver, CO 80202-4801.

Philadelphia HOC: U.S. Dept. of HUD, Philadelphia Homeownership Center, The Wanamaker Building, 100 Penn Square East, Philadelphia, PA 19107-3389.

Santa Ana HOC: U.S. Dept. of HUD, Santa Ana Homeownership Center, 160 N. Stone Avenue, Tucson, AZ 85701.

C. How To Contact an Asset Manager (AM) Vendor

Listing Brokers who wish to participate in the M&M III program must contact an AM vendor responsible for the geographic areas where they want to list properties. A list of all AM vendors and the geographic areas for which they are responsible can be found at: http://www.hud.gov/offices/hsg/sfh/reo/reohome.cfm.

II. Paperwork Reduction Act Statement

The information collection requirements contained in this document are pending the approval by the Office of Management and Budget (OMB) in accordance with the Paperwork Reduction Act of 1995 (44 U.S.C. 3501-3520), and have been assigned OMB control number 2502-0306. In accordance with the Paperwork Reduction Act, HUD may not conduct or sponsor, and a person is not required to respond to, a collection of information unless the collection displays a currently valid control number.

Dated: November 17, 2010.
David H. Stevens,
Assistant Secretary for Housing—Federal Housing Commissioner.

[FR Doc. 2010-29654 Filed 11-23-10; 8:45 am]

BILLING CODE 4210-67-P